DEPARTMENT OF LABOR

Office of the Secretary

Submission for OMB Review; Comment Request

September 18, 2001.

The Department of Labor (DOL) has submitted the following public information collection requests (ICRs) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 or E-Mail: King-Darrin@dol.gov.

Comments should be sent to Office of Information and Regulatory Affairs, Attn: OMB Desk Officer for ETA, Office of Management and Budget, Room 10235, Washington, DC 20503 ((202) 395-7316), within 30 days from the date of this publication in the Federal Register.

The OMB is particularly interested in comments which:

• evaluate whether the proposed collection of information is necessary for the proper performance of the functions of the agency, including whether the information will have practical utility.

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submission of responses.

Agency: Employment and Training Administration (ETA).

Type of Review: New collection.

Title: Resource Justification Model (RJM).

OMB Number: 1205-ONEW.

Affected Public: State, Local, or tribal Government.

Frequency: Annually.

Type of Response: Reporting.

Number of Respondents: 53.

Cite/reference | Number of respondents | Average time per response (hours) | Estimated burden hours
RJM 1 ser | 53 | 41 | 2,173
RJM 2 ser | 53 | 30 | 1,590
RJM 3 ser | 53 | 6 | 318
RJM 4 ser | 53 | 12 | 636
RJM 5 ser | 53 | 12 | 636
RJM 6 ser | 53 | 7 | 371
Narrative | 53 | 11 | 583
Performance and Capital Improvement Request | 53 | 114 | 6,042
Total | 424 |  | 12,349

Total Annualized Capital/Startup Costs: $500,000.

Total Annual Costs (operating/maintaining systems or purchasing services): $375,000.

Description: The Secretary of Labor has legal responsibility under the Social Security Act (SSA) Title III, Section 303(a)(1) for providing state agencies the necessary cost of proper and efficient administration of state unemployment insurance (UI) laws. Accordingly, the Secretary must establish a means of measuring state agencies' “proper and efficient administration” of UI programs. The RJM would replace the current methodologies for budget formulation and grant allocation to the states for UI programs.

Ira Mills,
Departmental Clearance Officer.

[FR Doc. 01-23880 Filed 9-24-01; 8:45 am]

BILLING CODE 4510-30-M